INTERNATIONAL TRADE COMMISSION

[USITC SE-01-039]

Meetings; Sunshine Act

AGENCY HOLDING THE MEETING: United States International Trade Commission.

TIME AND DATE: December 7, 2001 at 11 a.m.

PLACE: Room 101, 500 E Street SW., Washington, DC 20436, Telephone: (202) 205-2000.

STATUS: Open to the public.

MATTERS TO BE CONSIDERED:

1. Agenda for future meeting: none

2. Minutes

3. Ratification List

4. Inv. No. TA-201-73 (Steel)(Remedy Phase)—briefing and vote. (The Commission is currently scheduled to transmit its recommendations to the President on December 19, 2001.)

5. Outstanding action jackets:

(1.) Document No. EC-01-016: Approval of final report in Inv. No. 332-415 (U.S. Trade and Investment with Sub-Saharan Africa).

(2.) Document No. GC-01-137: Concerning Inv. Nos. 731-TA-828 (Final) (Bulk Acetylsalicylic Acid (Aspirin) from China); 731-TA-851 (Final) (Synthetic Indigo from the People's Republic of China); and 731-TA-703 and 705 (Review) (Furfuryl Alcohol from China and Thailand).

(3.) Document No. GC-01-141: Concerning Inv. No. 337-TA-431 (Certain Semiconductor Chips with Minimized Chip Package Size and Products Containing Same).

(4.) Document No. GC-01-144: Concerning Inv. No. 337-TA-447 (Certain Aerospace Rivets and Products Containing Same).

(5.) Document No. ID-01-034: Approval of monitoring reports in Inv. Nos. 332-350 (Monitoring of U.S. Imports of Tomatoes) and 332-351 (Monitoring of U.S. Imports of Peppers).

In accordance with Commission policy, subject matter listed above, not disposed of at the scheduled meeting, may be carried over to the agenda of the following meeting.

By order of the Commission.
Issued: November 1, 2001.
Donna R. Koehnke,
Secretary.

[FR Doc. 01-27784 Filed 11-2-01; 3:17 am]

BILLING CODE 7020-02-P